DEPARTMENT OF COMMERCE

National Oceanic and Atmospheric Administration

RIN 0648-XD01

Strategic Plan for Fisheries Research (2007)

AGENCY: National Marine Fisheries Service (NMFS), National Oceanic and Atmospheric Administration (NOAA), Commerce.

ACTION: Notice of availability.

SUMMARY: NMFS announces the availability of the Strategic Plan for Fisheries Research (2007). The Magnuson-Stevens Act requires the Secretary of Commerce to develop, triennially, a strategic plan for fisheries research for the subsequent years.

ADDRESSES: Requests for copies of the NMFS Strategic Plan for Fisheries Research (2007) should be directed to Mark Chandler, Office of Science and Technology, NMFS, NOAA, 1315 East-West Highway, Silver Spring, MD 20910, phone: (301) 713-2367 ext. 152, fax: (301) 713-1875.

Electronic Access: The NMFS Strategic Plan for Fisheries Research (2007) may viewed in its entirety online at http://www.st.nmfs.noaa.gov/index.html.

FOR FURTHER INFORMATION CONTACT: Mark Chandler at 301-713-2367 ext. 152.

SUPPLEMENTARY INFORMATION: Section 404 of the Magnuson-Stevens Act requires the Secretary of Commerce to post triennially in the Federal Register the availability of a five-year strategic plan for fisheries research. The Magnuson-Stevens Act also requires that the plan address four major areas of research: (1) research to support fishery conservation and management; (2) conservation engineering research; (3) research on the fisheries; and (4) information management research. The Magnuson-Stevens Act also requires that the plan contain a limited number of priority objectives for each of these research areas. Additionally, this plan incorporates input provided during the public comment period on the draft version announced in the Federal Register: January 24, 2007 (72 FR 3111).

The Strategic Plan for Fisheries Research (2007) is based upon and entirely consistent with NMFS' “New Priorities for the 21st Century: National Marine Fisheries Service Strategic Plan Updated for FY 2005—FY 2010” located on the internet at http://www.nmfs.noaa.gov/mb/strategic/. The objectives found under the “Major Fishery Research Goals and Objectives” section of the Strategic Plan for Fisheries Research can be linked with those in the agency's comprehensive plan that covers all aspects of NMFS' activities.

The scope of the 2007 document is solely fisheries research to support the Magnuson-Stevens Act. It does not include the regulatory and enforcement components of NMFS' mission. NMFS currently conducts a comprehensive program of fisheries research and involves industry and others interested in planning and implementing its fisheries objectives.

Dated: October 12, 2007.
Steven A. Murawski
Director of Scientific Programs and Chief Science Advisor,National Marine Fisheries Service.

[FR Doc. E7-20572 Filed 10-17-07; 8:45 am]

BILLING CODE 3510-22-S